ENVIRONMENTAL PROTECTION AGENCY

[FRL-7035-2]

Chemet Superfund Site; Notice of Proposed Settlement

AGENCY: Environmental Protection Agency.

ACTION: Notice of proposed settlement.

SUMMARY: Under section 122(h)(1) of the Comprehensive Environmental Response and Liability Act (CERCLA), the Environmental Protection Agency (EPA) has proposed to settle claims for response costs at the Chemet Site located in Moscow, Tennessee (Site), with ContiGroup Companies, Inc., Harcross Chemicals, Inc., Kewanee Industries, Inc. and Chevron Environmental Management Company and Pechiney World Trade (U.S.A.), Inc.

EPA will consider public comments on the proposed settlement for thirty (30) days. EPA may withdraw or modify the proposed settlement should such comments disclose facts or considerations which indicate the proposed settlement is inappropriate, improper, or inadequate.

Copies of the proposed settlement are available from: Ms. Paula V. Batchelor, U.S. Environmental Protection Agency, Region IV, CERCLA Program Services Branch, Waste Management Division, 61 Forsyth Street, SW., Atlanta, GA 30303, 404-562-8887.

Written comments may be submitted to Ms. Batchelor at the above address within thirty (30) days of the date of publication.

Dated: August 2, 2001.
James T. Miller,
Acting Chief, CERCLA Program Services Branch, Waste Management Division.

[FR Doc. 01-20795 Filed 8-16-01; 8:45 am]

BILLING CODE 6560-50-P